DEPARTMENT OF HEALTH AND HUMAN SERVICES

Health Resources and Services Administration

Advisory Committee on Infant Mortality; Notice of Meeting

In accordance with section 10(a)(2) of the Federal Advisory Committee Act (Pub. L. 92-463), notice is hereby given of the following meeting:

Name: Advisory Committee on Infant Mortality (ACIM).

Dates and Times: November 14, 2012, 8:30 a.m.-5:30 p.m.; November 15, 2012, 8:30 a.m.-3:30 p.m.

Place: L'Enfant Plaza Hotel, 480 L'Enfant Plaza SW., Washington, DC 20024, (202) 484-1000.

Status: The meeting is open to the public with attendance limited to space availability.

Purpose: The Committee provides advice and recommendations to the Secretary of Health and Human Services on the following: Department of Health and Human Services' programs that focus on reducing infant mortality and improving the health status of infants and pregnant women; and factors affecting the continuum of care with respect to maternal and child health care. It includes outcomes following childbirth; strategies to coordinate the myriad federal, state, local and private programs and efforts that are designed to deal with the health and social problems impacting on infant mortality; and the implementation of the Healthy Start Program and Healthy People 2020 infant mortality objectives.

Agenda: Topics that will be discussed include the following: HRSA Update; Maternal and Child Health Bureau Update; Healthy Start Program Update; Updates from Partnering Agencies and Organizations; and ACIM's recommendations for the HHS National Strategy to Address Infant Mortality.

Proposed agenda items are subject to change as priorities dictate.

Time will be provided for public comments limited to five minutes each. Comments are to be submitted in writing no later than 5:00 p.m. ET on October 31, 2012.

FOR FURTHER INFORMATION CONTACT:Anyone requiring information regarding the Committee should contact Michael C. Lu, M.D., M.P.H., Executive Secretary, ACIM, Health Resources and Services Administration, Room 18-05, Parklawn Building, 5600 Fishers Lane, Rockville, MD 20857, Telephone: (301) 443-2170.

Individuals who are submitting public comments or who have questions regarding the meeting and location should contact David S. de la Cruz, Ph.D., M.P.H., ACIM Designated Federal Official, HRSA, Maternal and Child Health Bureau, telephone: (301) 443-0543, email: David.delaCruz@hrsa.hhs.gov.

Dated: October 16, 2012.
Bahar Niakan,
Director, Division of Policy and Information Coordination.

[FR Doc. 2012-25947 Filed 10-19-12; 8:45 am]

BILLING CODE 4165-15-P